DEPARTMENT OF HEALTH AND HUMAN SERVICES

Agency for Toxic Substances and Disease Registry

Statement of Organization, Functions, and Delegations of Authority

Part T (Agency for Toxic Substances and Diseases Registry) of the Statement of Organization, Functions, and Delegations of Authority of the Department of Health and Human Services (50 FR 25129-25130, dated June 17, 1985, as amended most recently at 62 FR 1119-1120, dated January 8, 1997) is amended to abolish the Office of Federal Programs, Office of the Assistant Administrator, Agency for Toxic Substances and Disease Registry.

Section T-B, Organization and Functions, is hereby amended as follows:

Delete the title and functional statement for the Office of Federal Program (TBB) in their entirety.

Dated: October 29, 2002.
Julie Louise Gerberding,
Administrator.

[FR Doc. 02-28320 Filed 11-6-02; 8:45 am]

BILLING CODE 4160-70-M